DEPARTMENT OF COMMERCE

National Oceanic and Atmospheric Administration

[RTID 0648-XB475]

South Atlantic Fishery Management Council; Public Hearings

AGENCY: National Marine Fisheries Service (NMFS), National Oceanic and Atmospheric Administration (NOAA), Commerce.

ACTION: Notice of public hearings.

SUMMARY: The South Atlantic Fishery Management Council (Council) will hold four in-person public hearings pertaining to Amendment 32 to the Fishery Management Plan (FMP) for Coastal Migratory Pelagic Resources in the Gulf of Mexico and Atlantic Region. The amendment addresses modifications to the Gulf of Mexico Migratory Group Cobia catch limits, possession limits, size limits, and framework procedure.

DATES: The public hearings will take place October 18-21, 2021. The public hearings will begin at 6 p.m., EST. For specific dates and times, see SUPPLEMENTARY INFORMATION.

ADDRESSES:

Council address: South Atlantic Fishery Management Council, 4055 Faber Place Drive, Suite 201, N Charleston, SC 29405.

Meeting addresses: The public hearings will be held in Key West, FL; Jupiter, FL; Cocoa Beach, FL; and Jacksonville, FL. For specific locations, see SUPPLEMENTARY INFORMATION.

FOR FURTHER INFORMATION CONTACT: Kim Iverson, Public Information Officer, SAFMC; phone: (843) 571-4366 or toll free: (866) SAFMC-10; fax: (843) 769-4520; email: kim.iverson@safmc.net.

SUPPLEMENTARY INFORMATION: Public hearing documents, an online public comment form, and other materials will be posted to the Council's website at https://safmc.net/safmc-meetings/public-hearings-scoping-meetings/ as they become available. Written comments should be addressed to John Carmichael, Executive Director, SAFMC, 4055 Faber Place Drive, Suite 201, N Charleston, SC 29405. Written comments must be received by October 21, 2021, by 5 p.m. in order to be included in the public hearing record for the amendment.

Please note, attendees will be expected to follow any current COVID-19 safety protocols as determined by the venue and each city. Such precautions may include wearing masks in the meeting room, room capacity restrictions, and social distancing. Masks may be removed while giving public testimony.

During the hearings, Council staff will brief the public on the purpose and need of the amendment and provide an overview of actions being considered. Staff will answer clarifying questions on the presented information and the proposed actions. Following the presentation and questions, the public will have the opportunity to provide comments on the amendment.

Amendment 32 to the Coastal Migratory Pelagic FMP

The Coastal Migratory Pelagics FMP, which includes Gulf of Mexico Migratory Group Cobia, is jointly managed by the South Atlantic Fishery Management Council and the Gulf of Mexico Fishery Management Council. The Councils are currently considering modifications to the Gulf of Mexico Migratory Group Cobia Catch Limits, Possession Limits, Size Limits, and Framework Procedure. The management area for Gulf Migratory Group Cobia includes the east coast of Florida.

Public Hearing Locations

Monday, October 18, 2021: Harvey Governmental Center, 1200 Truman Ave., Key West, FL 33040; phone: (305) 289-6063;

Tuesday, October 19, 2021: The River Center, Burt Reynolds Park, 805 US Highway 1 Jupiter, FL 33477; phone: (561) 743-7123;

Wednesday, October 20, 2021: Hilton Cocoa Beach Oceanfront, 1550 North Atlantic Avenue, Cocoa Beach, FL 32931; phone: (321) 799-0003; and

Thursday, October 21, 2021: Mudville Grill, 3105 Beach Blvd., Jacksonville, FL 32216; phone: (904) 398-4326.

Special Accommodations

These hearings are physically accessible to people with disabilities. Requests for auxiliary aids should be directed to the Council office (see ADDRESSES) 3 days prior to the meeting.

Note: The times and sequence specified in this agenda are subject to change.

Authority: 16 U.S.C. 1801 et seq.

Dated: September 28, 2021.
Tracey L. Thompson,
Acting Deputy Director, Office of Sustainable Fisheries, National Marine Fisheries Service.

[FR Doc. 2021-21412 Filed 9-30-21; 8:45 am]

BILLING CODE 3510-22-P